DEPARTMENT OF LABOR

Occupational Safety and Health Administration

[Docket No. OSHA-2023-0012]

Federal Advisory Council on Occupational Safety and Health (FACOSH); Notice of Rechartering

AGENCY: Occupational Safety and Health Administration (OSHA), Labor.

ACTION: Notice of rechartering of the Federal Advisory Council on Occupational Safety and Health (FACOSH).

SUMMARY: The Occupational Safety and Health Administration (OSHA) hereby announces that the FACOSH charter will be renewed for a two-year period pursuant to the Federal Advisory Committee Act (FACA) and in accordance with the Committee Management Secretariat, General Services Administration.

FOR FURTHER INFORMATION CONTACT:

Press inquiries: Mr. Frank Meilinger, Director, OSHA Office of Communications; telephone: (202) 693-1999; email: meilinger.francis2@dol.gov.

General information: Ms. Mikki Holmes, Director, OSHA Office of Federal Agency Programs; telephone (202) 693-2491; email ofap@dol.gov.

Copies of this Federal Register document: Electronic copies of this Federal Register document are available at http://www.regulations.gov. This document, as well as news releases and other relevant information are also available on the OSHA web page at http://www.osha.gov.

SUPPLEMENTARY INFORMATION: On September 29, 2023, President Joseph Biden signed Executive Order (E.O.) 14109 continuing certain federal advisory committees, including FACOSH, until September 30, 2025 (88 FR 68447 (October 04, 2023)). In response, the Secretary approved the renewal of the FACOSH charter. The Department of Labor (DOL) will file the renewed FACOSH charter before the current FACOSH Charter expires on October 14, 2023. FACOSH will terminate on September 30, 2025, unless continued by the President. The FACOSH charter is available to read or download at http://www.osha.gov.

Authority and Signature

James S. Frederick, Deputy Assistant Secretary of Labor for Occupational Safety and Health, directed the preparation of this notice pursuant to 5 U.S.C. 7902; 5 U.S.C. App. 2; 29 U.S.C. 668; E.O. 12196 (45 FR 12629 (2/27/1980)), as amended; 41 CFR part 102-3; and Secretary of Labor's Order 08-2020 (85 FR 58393).

Signed at Washington, DC, on October 5, 2023.
James S. Frederick,
Deputy Assistant Secretary of Labor for Occupational Safety and Health.

[FR Doc. 2023-22537 Filed 10-12-23; 8:45 am]

BILLING CODE 4510-26-P